DEPARTMENT OF TRANSPORTATION

Federal Aviation Administration

Notice of Availability of the Final Supplemental Environmental Assessment (FSEA) and Finding of No Significant Impact (FONSI) and Record of Decision (ROD), Related to the Proposed Modification to the Four Corner-Post Plan at Las Vegas McCarran International Airport, Las Vegas, NV

AGENCY: Federal Aviation Administration (FAA), DOT.

ACTION: Notice of Availability.

SUMMARY: The Federal Aviation Administration (FAA) announces the availability of the Final Supplemental Environmental Assessment (FSEA), and Finding of No Significant Impact and Record of Decision (FONSI/ROD) for the proposed modification to the Four Corner-Post Plan at Las Vegas McCarran International Airport, Las Vegas, Nevada.

The FSEA and FONSI/ROD were prepared pursuant to the National Environmental Policy Act (NEPA) of 1969, as amended, FAA Order 1050.1E, “Environmental Impacts: Policies and Procedures,” and other applicable environmental laws and regulations. The FSEA and FONSI/ROD assess the effects of the relevant environmental impact categories for the proposed Federal action under consideration in the proposed modification of the STAAV Area Navigation (RNAV) Standard Instrument Departure (SID) to accommodate eastbound departures from Runway 25. The STAAV RNAV SID was implemented as part of the Four Corner-Post Plan at McCarran International Airport (LAS), Las Vegas, Nevada, in October 2001. The proposed Federal action is required to address the air traffic and airspace inefficiencies for departure traffic resulting from increased demand at LAS, and to recapture the efficiency that was lost from the reduction in the use of the right-turn procedure from Runway 25 as part of the 2001 LAS 4CP. Modification of the STAAV departure procedure to accommodate eastbound departures will provide an additional route for some eastbound departures, and reduce the time needed between successive departures, resulting in improved airspace efficiency and reduced departure delays.

The FSEA and FONSI/ROD may be reviewed for comment during regular business hours at the following locations:

1. Nevada State Library and Archives, 100 Stewart St., Las Vegas, NV 89710.

2. Las Vegas Branch Library, 509 S. 9th St., Las Vegas, NV 89101-7010.

3. Las Vegas Library, 833 Las Vegas Blvd. N, Las Vegas, NV 89101-2004.

4. Meadows Library, 300 W. Boston Ave, Las Vegas, NV 89102.

5. Rainbow Library, 3150 N. Buffalo Dr., Las Vegas, NV 89128-2823.

6. Sahara West Library, 9600 W. Sahara Ave., Las Vegas, NV 89117-5959.

7. Spring Valley Library, 4280 S. Jones Blvd., Las Vegas, NV 89103-3325.

8. Summerlin Library, 1771 Inner Circle, Las Vegas, NV 89134-6119.

9. Sunrise Library, 5400 Harris Ave., Las Vegas, NV 89110-2543.

10. West Charleston Library, 6301 W. Charleston Blvd., Las Vegas, NV 89146-1124.

11. West Las Vegas Library, 951 W. Lake Mead Blvd., Las Vegas, NV 89106-2315.

12. Whitney Library, 5175 E. Tropicana Ave., Las Vegas, NV 89122-6742.

Electronic copies of the FSEA and the FONSI/ROD are also available on the Internet and can be accessed at http://www.faa.gov/airports%5Fairtraffic/air%5Ftraffic/.

FOR FURTHER INFORMATION CONTACT: Ms. Kathryn Higgins, Environmental Specialist, Western Terminal Service Area Office, FAA Western Terminal Operations, 15000 Aviation Blvd., Lawndale, CA 90261, Ph. (310) 725-6597, E-mail: kathryn.higgins@faa.gov.

Issued in Lawndale, California, on November 14, 2006.
Leonard Mobley,
Manager, Airspace Branch, Western Service Area.

[FR Doc. 06-9368 Filed 11-22-06; 8:45 am]

BILLING CODE 4910-13-M